DEPARTMENT OF HEALTH AND HUMAN SERVICES

National Institutes of Health

National Cancer Institute; Amended Notice of Meeting

Notice is hereby given of a change in the meeting of the National Cancer Institute Special Emphasis Panel, Thyroid Cancer and other Malignancies in Belarus, November 9, 2023, 11:00 a.m. to 2:00 p.m., National Cancer Institute Shady Grove, 9609 Medical Center Drive, Room 7W608, Rockville, Maryland 20850 which was published in the Federal Register on August 30, 2023, FR Doc. 2023-18703, 88 FR 59930.

This notice is being amended to change the meeting title from National Cancer Institute Special Emphasis Panel Thyroid Cancer and other Malignancies in Belarus to National Cancer Institute Special Emphasis Panel Cancer and Other Health Effects Following Chernobyl Accident. The meeting location, date and time will stay the same. The meeting is closed to the public.

Dated: September 20, 2023.
Melanie J. Pantoja,
Program Analyst, Office of Federal Advisory Committee Policy.

[FR Doc. 2023-20787 Filed 9-25-23; 8:45 am]

BILLING CODE 4140-01-P